DEPARTMENT OF COMMERCE

National Oceanic and Atmospheric Administration

Proposed Information Collection; Comment Request; Reporting of Sea Turtle Entanglement in Fishing Gear or Marine Debris

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 18, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Kate Sampson, (978) 282-8470 or kate.sampson@noaa.gov.

SUPPLEMENTARY INFORMATION:

I. Abstract

This notice is for renewal of a currently approved collection.

This collection of information involves sea turtles becoming accidentally entangled in active or discarded fixed fishing gear or marine debris. These entanglements may prevent the recovery of endangered and threatened sea turtle populations. The National Marine Fisheries Service (NMFS) Northeast Region (Maine to Virginia) has established the Sea Turtle Disentanglement Network to promote reporting and increase successful disentanglement of sea turtles. This Network is made up of sea turtle stranding network organizations, as well as federal, state, and municipal agencies. NMFS relies on the Network and opportunistic reports from fishermen and recreational boaters for information about entangled turtles. The information provided will help NMFS better assess the threat of sea turtle entanglement in vertical lines from fixed gear fisheries (lobster, whelk/conch, crab, fish trap, gill net), discarded gear and marine debris.

II. Method of Collection

Reports are made by telephone, fax, standard mail or e-mail.

III. Data

OMB Control Number: 0648-0496.

Form Number: None.

Type of Review: Regular submission (renewal of a currently approved collection).

Affected Public: Business or other for profit organizations, individuals or households, not-for-profit institutions, federal government, and state, local or tribal government.

Estimated Number of Respondents: 45.

Estimated Time Per Response: 1 hour.

Estimated Total Annual Burden Hours: 45.

Estimated Total Annual Cost to Public: $675.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 16, 2010.
Gwellnar Banks,
Management Analyst, Office of the Chief Information Officer.

[FR Doc. 2010-29225 Filed 11-18-10; 8:45 am]

BILLING CODE 3510-22-P